DEPARTMENT OF HEALTH AND HUMAN SERVICES

Centers for Disease Control and Prevention

[Docket No. CDC-2013-0003]

Walking as a Way for Americans To Get the Recommended Amount of Physical Activity for Health

AGENCY: Centers for Disease Control and Prevention (CDC), Department of Health and Human Services (HHS).

ACTION: Request for information.

SUMMARY: To address the public health problem of physical inactivity, the Centers for Disease Control and Prevention (CDC), within the Department of Health and Human Services (HHS) announces the opening of a docket to obtain information from the public on walking as an effective way to be sufficiently active for health. The information obtained will be used to frame an anticpated Surgeon General's call to action on this issue.

DATES: Individuals and organizations interested in providing information must submit their written comments on or before May 1, 2013.

ADDRESSES: Comments may be submitted by any of the two following methods:

• Internet: Electronic comments may be sent via: http://www.regulations.gov, docket number CDC-2013-0003. Please follow the instructions on the site to submit comments; or

• Mail: Comments may also be sent by mail to the attention of Joan Dorn, Ph.D., Chief, Physical Activity and Health Branch, Division of Nutrition, Physical Activity, and Obesity, Centers for Disease Control and Prevention, 4770 Buford Highway NE., MS-K46, Atlanta, Georgia, 30341-3717.

Instructions: All information received in response to this notice must include the agency name and docket number (CDC-2013-0003).

All relevant comments received will be posted without change to http://www.regulations.gov, including any personal information provided.

FOR FURTHER INFORMATION CONTACT: Joan Dorn, Ph.D., Chief, Physical Activity and Health Branch, Division of Nutrition, Physical Activity, and Obesity, Centers for Disease Control and Prevention, 4770 Buford Highway NE., MS-K46, Atlanta, Georgia, 30341-3717 by telephone (770-488-5692) or email (frnwalking@cdc.gov).

SUPPLEMENTARY INFORMATION: Scope of the problem: Less than half (48%) of all U.S. adults (1) meet the 2008 Physical Activity Guidelines, which will be included in the docket as a supporting document, and less than 3 in 10 high school students get at least 60 minutes of physical activity every day (2). Only 13 percent of children walk or bike to school, compared with 44 percent a generation ago (3). More than a quarter of trips made by car are within one mile of home (4). Observed differences in physical activity levels among some population groups include: physical activity levels decline with age (5); activity levels are lower in low-income communities and among racial/ethnic miniorities (6); and, in general, persons with disabilities are less active than those without disabilities (7). Causes for lower physical activity levels vary but may in part be due to a lack of available and/or accessible places for safe and enjoyable physical activity. Walking can be an enjoyable recreational, occupational or purposeful (e.g., for transportation) physical activity in which many Americans can engage. It can enhance health and quality of life and can also serve as a gateway to other enjoyable types of physical activity.

Approach: HHS/CDC works to increase health-related physical activity through population-based approaches. The agency also conducts physical activity related surveillance, applied research and evaluation, and translates and disseminates associated best practices to inform efforts to improve opportunities and support for physical activity. Consistent with these activities, HHS/CDC is assisting the Office of the Surgeon General in the Department of Health and Human Services to issue a call to action to increase attention to the promotion of walking and walkability to help Americans become more physically active. The intent of the Surgeon General's call to action is to identify opportunities and actions that can be taken by all levels of government, civic organizations, health care providers, educational institutions, worksites, industry, service providers, individuals and others to increase walking and walkability throughout the nation by providing access to safe, attractive and convenient places to walk (and wheelchair roll) and creating a culture that supports walking for Americans of all ages and abilities.

We invite comments and information on environmental or systems strategies; interventions that increase walkability of communities and walking for individuals; and national-, state-, tribal-, territorial-, community-, organizational-, and individual-level actions. We are particularly interested in strategies that consider individuals with developmental and chronic disease-related disabilities, and groups having health and physical activity disparities or lack resources and opportunities to be physically active.

Areas of Focus: Many factors can contribute to low levels of walking and physical inactivity, including lack of access to safe and convenient places to walk, lack of signage and directional information, long distances to destinations, lack of public transportation, and lack of the inclusion of persons with mobility limitations in walking campaigns and programs. HHS/CDC and the Office of the Surgeon General are interested in receiving information on the following topics:

(1) Barriers to walking for youth; adults; seniors; persons with developmental, injury, and chronic disease-related disabilities; racial and ethnic minorities; and low-income individuals.

(2) Evidence-based strategies for overcoming those barriers and their reach and impact to increase physical activity at the population level and among the above mentioned subpopulations.

References

(1) Schiller JD, Jucas JW, Ward BW, Peregoy JA. Summary health statistics for U.S. adults: National Health Interview Survey, 2010. Vital Health Stat 2012;10(252).

(2) CDC. Youth Risk Behavior Surveillance—United States, 2011. MMWR 2012;61(SS-4).

(3) Centers for Disease Control and Prevention. The association between school based physical activity, including physical education, and academic performance. Atlanta, GA: U.S. Department of Health and Human Services; 2010. Available at http://www.cdc.gov/healthyyouth/health_and_ academics/pdf/pa-pe_paper.pdf. Accessed May 17, 2011.

(4) Nationwide Personal Transportation Survey. U.S. Department of Transportation, Federal Highway Administration, Research and Technical Support Center. Lanham, MD: Federal Highway Administration, 1997.

(5) Trost SG, Owen N, Bauman AE, et al. Correlates of adults' participation in physical activity: Review and update, 1996-2001. Med Sci Sports Exerc. 2002 Dec;34(12). Available at http://www.healthypeople.gov/2020/topicsobjectives2020/overview.aspx?topicid=33. Accessed May 16, 2011.; U.S. Department of Health and Human Services 2008 Physical Activity Guidelines for Americans. Available from http://www.health.gov/paguidelines. Accessed May 16, 2011.

(6) Sallis JF, Prochaska JJ, Taylor WC. A review of correlates of physical activity of children and adolescents. Med Sci Sports Exerc. 2000; 32: 963-75.

(7) Centers for Disease Control and Prevention. Physical activity among adults with a disability—United States 2005. MMWR. 2007:56(39):1021-1024.

Dated: March 18, 2013.
Tanja Popovic,
Deputy Associate Director for Science, Centers for Disease Control and Prevention.

[FR Doc. 2013-07204 Filed 3-29-13; 8:45 am]

BILLING CODE 4163-18-P